DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by May 18, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service

Title: Cotton Ginning Survey.

OMB Control Number: 0535-0220.

Summary of Collection: The National Agricultural Statistics Service's (NASS) primary function is to prepare and issue state and national estimates of crop and livestock production, disposition and prices as well as specialty agricultural and environmental statistics. The Cotton Ginning Survey provides statistics concerning cotton ginning for specific dates and geographic regions and aids in forecasting cotton production. The Cotton Ginning surveys obtain data mandated under U.S.C. Title 13, Section 42(a). General authority for these data collection activities is granted under U.S. Code Title 7, section 2204.

Need and use of the Information: The majority of data are collected by Computer-Aided Self-Administered Interview (CASI), telephone, mail, and fax. All active gins for a given crop season are included in the survey. This includes gins in all 17 cotton producing states. The survey begins on August 1st for the current production year. The sample size increases as the amount of cotton harvested and ginned increases. The peak number of gins that are surveyed will occur in November. The sample size will decline after that to coincide with the completion of harvesting and ginning in some States. The “End of Season” questionnaire is sent to each gin as they complete their ginning for the year, the summarized end of season data will be published in May.

Description of Respondents: Business or other for-profit.

Number of Respondents: 575.

Frequency of Responses: Reporting: Monthly, Annually.

Total Burden Hours: 1,218.

Levi S. Harrell,
Departmental Information Collection Clearance Officer.

[FR Doc. 2023-08150 Filed 4-17-23; 8:45 am]

BILLING CODE 3410-20-P